DEPARTMENT OF HEALTH AND HUMAN SERVICES

Administration for Children and Families

[CFDA Number: 93.604]

Announcement of Intent To Award 35 Operating Division (OPDIV)-Initiated Supplements for Grantees Under the Direct Services for Survivors of Torture Program

AGENCY: Office of Refugee Resettlement (ORR), Administration for Children and Families (ACF), Department of Health and Human Services (HHS).

ACTION: Notice of intent to issue 35 OPDIV-Initiated Supplements.

SUMMARY: ACF, ORR, Division of Refugee Health announces the intent to award 35 OPDIV-Initiated Supplements in amounts ranging from $23,500 to $95,569 to grantees providing direct services funded through the Services for Survivors of Torture Program. See Table 1 below for more details on the supplement awards.

DATES: The proposed period of support for the supplements begins on September 30, 2020, and ends on September 29, 2021.

FOR FURTHER INFORMATION CONTACT: Curi Kim, Division Director, Division of Refugee Health, Office of Refugee Resettlement, 330 C Street SW, Washington, DC, 20201. Telephone: 202-401-5585. Email: curi.kim@acf.hhs.gov.

SUPPLEMENTARY INFORMATION: The supplements will be allocated to (1) make grantee award amounts whole (equal to their original requested amount); (2) provide a $23,500 increase to all grantees; and (3) provide an increase to two grantees in areas of highest need with the largest waiting lists: Texas and New York. The table below shows the grantees' organization name, location, and supplemental award amount.

Table 1
Organization name | City | State | Supplement amount
Arab Community Center for Economic and Social Services | Dearborn | MI | $36,869
Asian Americans for Community Involvement, Center for Survivors of Torture | San Jose | CA | 23,500
Bethany Christian Services, Center for Healing Torture Trauma | Grand Rapids | MI | 31,409
Bilingual International Assistance Services | St. Louis | MO | 47,912
Boston Medical Center, Boston Center for Refugee Health and Human Rights | Boston | MA | 53,231
Catholic Charities Corporation | Cleveland | OH | 53,166
Center for Survivors of Torture | Dallas | TX | 90,989
Connecticut Institute for Refugees and Immigrants | Bridgeport | CT | 23,500
Gulf Coast Jewish Family and Community Services, Florida Center for Survivors of Torture | Clearwater | FL | 23,500
Heartland Alliance International, Marjorie Kovler Center | Chicago | IL | 53,231
HIAS, Capital Area Healing Coalition | Silver Spring | MD | 84,083
International Rescue Committee in Colorado | New York | NY | 23,500
International Rescue Committee in Arizona | New York | NY | 53,231
Lutheran Community Services Northwest, Northwest Health and Human Rights | Seatac | WA | 53,015
Lutheran Social Services Rocky Mountains, Southwest Program for Survivors of Torture in New Mexico | Denver | CO | 23,500
Nationalities Service Center, Philadelphia Partnership for Resilience Collaborative | Philadelphia | PA | 53,229
New York City Health & Hospitals, Bellevue Hospital, Program for Survivors of Torture | New York | NY | 79,110
New York City Health & Hospitals, Bellevue Hospital, Torture Treatment Coalition | New York | NY | 23,500
New York City Health & Hospitals, Elmhurst Hospital, Libertas Center for Human Rights | New York | NY | 23,500
Northern Virginia Family Service, Program for Survivors of Torture and Trauma | Oakton | VA | 28,652
Oregon Health & Science University, Torture Treatment Center of Oregon | Portland | OR | 78,267
Program for Torture Victims | Los Angeles | CA | 23,500
Program for Torture Victims in Orange County | Los Angeles | CA | 23,500
Survivors of Torture, International | San Diego | CA | 23,500
The Center for Victims of Torture in Georgia | St. Paul | MN | 23,500
The Center for Victims of Torture | St. Paul | MN | 53,231
The University of California, San Francisco Trauma Recovery Center, Survivors International | San Francisco | CA | 23,500
Torture Abolition and Survivors Support Coalition International | Washington | DC | 52,887
Utah Health and Human Rights Project | Salt Lake City | UT | 79,809
Vermont Psychological Services, New England Survivors of Torture and Trauma | Burlington | VT | 53,239
Jewish Family Services of Western NY | Buffalo | NY | 74,401
Saint Alphonsus Regional Medical Center | Boise | ID | 62,879
Partnership for Trauma Recovery | Berkeley | CA | 71,878
University of Louisville Research Foundation | Louisville | KY | 95,557
Legal Aid Foundation of Los Angeles | Los Angeles | CA | 95,569

Statutory Authority: Torture Victims Relief Act of 1998, section 5(a), Public Law 105-320, 22 U.S.C. 2152 note.

Elizabeth Leo,
Senior Grants Policy Specialist, Division of Grants Policy, Office of Administration.

[FR Doc. 2020-12564 Filed 6-9-20; 8:45 am]

BILLING CODE 4184-45-P